INTERNATIONAL TRADE COMMISSION

[Investigation No. 337-TA-633]

In the Matter of Certain Acetic Acid; Notice of Determination Not To Review an Initial Determination Granting Complainant's Motion To Terminate the Investigation Based on Withdrawal of the Complaint

AGENCY: U.S. International Trade Commission.

ACTION: Notice.

SUMMARY: Notice is hereby given that the U.S. International Trade Commission has determined not to review an initial determination (“ID”) (Order No. 6) issued by the presiding administrative law judge (“ALJ”) granting complainant's motion to terminate the investigation in its entirety based on withdrawal of the complaint.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 5, 2008, based on a complaint filed by Celanese International Corporation (“Celanese”). The complaint alleges violations of section 337 of the Tariff Act of 1930 (19 U.S.C. 1337) in the importation into the United States, the sale for importation, and the sale within the United States after importation of certain acetic acid that allegedly infringes certain claims of United States Patent No. 6,303,813. The complaint named Jiangsu Sopo Corporation (Group) Ltd., a/k/a Jiangsu Sopo (Group) Corp., a/k/a Jiangsu Sopo (Group) Co. Ltd. of Shanghai, China, and Jiangsu Sopo Group, Shanghai Limited Company of Shanghai, China as respondents.

On May 23, 2008, Celanese filed a motion to terminate the investigation in its entirety based on withdrawal of the complaint. Respondents did not oppose complainant's motion, but requested that their pending motion to declassify portions of a deposition transcript (Motion No. 633-1) be ruled upon first. The Commission investigative attorney argued that complainant's motion to withdraw the complaint should be granted, without the imposition of any terms or conditions.

On June 18, 2008, the ALJ issued the subject ID, granting complainant's motion to terminate the investigation. No petitions for review were filed.

The Commission has determined not to review the ID. The investigation is terminated.

The authority for the Commission's determination is contained in section 337 of the Tariff Act of 1930, as amended (19 U.S.C. 1337), and in section 210.42 of the Commission's Rules of Practice and Procedure (19 CFR 210.42).

By order of the Commission.
Issued: July 11, 2008.
Marilyn R. Abbott,
Secretary to the Commission.

[FR Doc. E8-16280 Filed 7-16-08; 8:45 am]

BILLING CODE 7020-02-P